DEPARTMENT OF HEALTH AND HUMAN SERVICES

Centers for Disease Control and Prevention

[30Day-14-14VU]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) evaluate the accuracy of the agencies estimate of the burden of the proposed collection of information, including the validity of the methodology and assumptions used; (c) enhance the quality, utility, and clarity of the information to be collected; (d) minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Promoting Adolescent Health through School-Based HIV/STD Prevention—New—National Center for HIV/AIDS, Viral Hepatitis, STD, and TB Prevention, Centers for Disease Control and Prevention (CDC).

Background and Brief Description

The Centers for Disease Control and Prevention (CDC) requests a 3-year OMB approval to conduct a new information collection entitled, “Promoting Adolescent Health Through School-Based HIV/STD Prevention”. The proposed project is a semi-annual Web-based questionnaire to assess programmatic activities among funded agencies which include local education agencies (LEA), state education agencies (SEA), and non-governmental organizations (NGO) funded by the Division of Adolescent and School Health (DASH), Centers for Disease Control and Prevention.

Currently, the questionnaires are the only standardized reporting process for HIV/STD prevention activities among LEAs, SEAs, and NGOs funded by DASH. The data being gathered via the nine questionnaires: (1) Provides standardized information about how HIV/STD prevention funds are used by funded agencies; (2) provides descriptive and process information about program activities; and (3) provides greater accountability for use of public funds. The questionnaires are completed by the funded agencies on a Web site managed by DASH and its contractor, Karna. The questionnaires are to be completed on a semi-annual basis.

The questionnaires pertain to the approaches that funded agencies are using to meet their goals. Approaches include helping districts and schools deliver exemplary sexual health education (ESHE) emphasizing HIV and other STD prevention; increasing adolescent access to key sexual health services (SHS); and establishing safe and supportive environments (SSE) for students and staff.

There are a total of nine questionnaires that are included in the burden table below. Each SEA will be completing activities for all approaches. Therefore, each SEA will complete a questionnaire for each approach (ESHE, SHS, and SSE). Likewise, each LEA will be completing activities for all approaches. Therefore, each LEA will complete a questionnaire for each approach (ESHE, SHS, and SSE). Each NGO will respond to the questionnaire for the approach they are implementing in support of SEAs or LEAs. Two NGOs will respond to the ESHE questionnaire, two NGOs will respond to the SHS questionnaire, and two NGOs will respond to the SSE questionnaire.

There are no costs to respondents other than their time. The estimated annualized burden for all funded agencies is 820 hours.

Estimated Annualized Burden Hours
Type of respondents | Form name | Number of respondents | Number of responses per respondent | Avg. burden per response (in hrs.)
State Education Agency | Exemplary Sexual Health Education Measures | 19 | 2 | 4
| Sexual Health Services Measures | 19 | 2 | 3
| Safe and Supportive Environments Measures | 19 | 2 | 1
Local Education Agency | Exemplary Sexual Health Education Measures | 17 | 2 | 6
| Sexual Health Services Measures | 17 | 2 | 3
| Safe and Supportive Environments Measures | 17 | 2 | 6
Non-governmental organization | Exemplary Sexual Health Education Measures | 2 | 2 | 30/60
| Sexual Health Services Measures | 2 | 2 | 30/60
| Safe and Supportive Environments Measures | 2 | 2 | 30/60

Leroy A. Richardson,
Chief, Information Collection Review Office, Office of Scientific Integrity, Office of the Associate Director for Science, Office of the Director, Centers for Disease Control and Prevention.

[FR Doc. 2014-21377 Filed 9-8-14; 8:45 am]

BILLING CODE 4163-18-P